DEPARTMENT OF AGRICULTURE

Forest Service

Siuslaw Resource Advisory Committee

AGENCY: Forest Service, USDA.

ACTION: Notice of meeting.

SUMMARY: The Siuslaw Resource Advisory Committee will meet in Corvallis, OR. The purpose of the meeting is to Review RAC FY09 Business, Elect Chairperson, Set FY09 Overhead Rate, Information Share, Public Forum and 2009 Project Review/Recommendations.

DATES: The meeting will be held April 24, 2009 beginning at 9 a.m.

ADDRESSES: The meeting will be held at the EPA—Western Ecology Division, 200 S.W. 35 Street, Corvallis, Oregon 97333.

FOR FURTHER INFORMATION CONTACT: Joni Quarnstrom, Siuslaw National Forest, 541/750-7075 or write to Forest Supervisor, Siuslaw National Forest, 4077 SW Research Way, Corvallis, OR 97339.

SUPPLEMENTARY INFORMATION: A public input period will begin before 2009 project review.

Dated: April 9, 2009.
Barnie T. Gyant,
Forest Supervisor.

[FR Doc. E9-8735 Filed 4-16-09; 8:45 am]

BILLING CODE